DEPARTMENT OF JUSTICE

Parole Commission

Sunshine Act Meeting; Pursuant to the Government in the Sunshine Act [5 U.S.C. Section 552b]

Agency Holding Meeting: Department of Justice, United States Parole Commission.

Date and Time: 11 a.m., Thursday, November 14, 2002

Place: U.S. Parole Commission, 5550 Friendship Boulevard, 4th Floor, Chevy Chase, Maryland 20815.

Status: Closed—Meeting.

Matters Considered: The following matter will be considered during the closed portion of the Commission's Business Meeting:

Appeals to the Commission involved approximately four cases decided by the National Commissioners pursuant to a reference under 28 CFR 2.27. These cases were originally heard by an examiner panel wherein inmates of Federal prisons have applied for parole and are contesting revocation of parole or mandatory release.

Agency Contact: Sam Robertson, Case Operations, United States Parole Commission, (301) 492-5962.

Dated: November 8, 2002.
Rockne Chickinell,
General Counsel.

[FR Doc. 02-28998 Filed 11-12-02; 10:10 am]

BILLING CODE 4410-31-M